DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal Plant and Health Inspection Service

Title: Understanding Knowledge and Beliefs about Translocation of Wild Pigs Study.

OMB Control Number: 0579-NEW.

Summary of Collection: Under the Act of March 2, 1931 (7 U.S.C. 8351), the Secretary of Agriculture is authorized to conduct a program of wildlife services with respect to injurious animal species and take any action the Secretary considers necessary in conducting the program. Additionally, the Secretary of Agriculture is authorized to conduct activities to control nuisance mammals and birds (except for urban rodent control) and those mammals and bird species that are reservoirs for zoonotic disease. This authority has been delegated to the Animal and Plant Health Inspection Service (APHIS) Wildlife Services (WS). Two responsibilities of the Deputy Administrator of WS are to assist Federal, State, local, and foreign agencies and individuals regarding wildlife damage and control and conduct research to develop wildlife damage management methods (7 CFR 371.6).

Need and Use of the Information: APHIS plans to conduct an online survey of members of the public and hunters in five southeastern states (Mississippi, Missouri, North Carolina, Oklahoma, and Tennessee) that would measure knowledge and beliefs about the transportation and release of wild pigs.

Data collected, analyzed, and interpreted from the Understanding Knowledge and Beliefs about Translocation of Wild Pigs study will be used to disseminated to a variety of constituents, including the APHIS WS and open access or subscription-based journals. Additionally, all data and metadata collected and used in peer-reviewed publications will be made publicly accessible in a data repository per the USDA Departmental Regulation 1020-006.

APHIS will use the data collected to:

1. Identify if there is a difference in awareness related to restrictions for transporting and releasing wild pigs between members of the public and hunters within their state;

2. Identify what key beliefs contribute to non-compliance related to restrictions for transporting and releasing wild pigs;

3. Identify what sources of information and beliefs contribute to the amount of awareness related to restrictions for transporting and releasing wild pigs;

4. Identify if there is a difference in tolerance of wild pigs between members of the public and hunters within their state and whether wild pig tolerance explains or influences beliefs about translocating wild pigs;

5. Identify if respondents' perceived awareness of their state regulations for transporting and releasing wild pigs is the same as their actual awareness;

6. Identify which sources of wild pig information are associated with greater awareness about wild pigs;

7. Identify respondents' beliefs about appropriate penalties for transporting and releasing wild pigs, including what factors are associated with such beliefs;

8. Identify how respondents' concerns about wild pigs impact their likelihood of reporting the transport and release of wild pigs to the authorities;

9. Provide input into wild pig management policy and outreach; and

10. Help inform policy by providing scientifically accurate data.

Description of Respondents: Individuals or Households.

Number of Respondents: 6,667.

Frequency of Responses: Reporting: On occasion.

Total Burden Hours: 1,401.

Rachelle Ragland-Greene,
Departmental Information Collection Clearance Officer.

[FR Doc. 2024-16392 Filed 7-24-24; 8:45 am]

BILLING CODE 3410-34-P